DEPARTMENT OF ENERGY

Federal Energy Regulatory Commission

[Docket No. RP01-388-001]

Northern Border Pipeline Company; Notice of Compliance Tariff Filing

June 19, 2001.

Take notice that on June 15, 2001 Northern Border Pipeline Company (Northern Border) tendered for filing to become part of its FERC Gas Tariff, First Revised Volume No. 1, the following tariff sheets to become effective June 1, 2001:

First Revised Sheet Number 183

First Revised Sheet Number 185

First Revised Sheet Number 189

First Revised Sheet Number 190

First Revised Sheet Number 191

Northern Border states that the purpose of this filing is to comply with the Commission's order dated May 31, 2001, 95 FERC 61,320 (May 31 Order), wherein the Commission directed Northern Border to file compliance tariff sheets for Rate Schedule PAL.

Northern Border states that copies of this filing have been sent to all parties of record in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15953 Filed 6-25-01; 8:45 am]

BILLING CODE 6717-01-M